DEPARTMENT OF TRANSPORTATION

Maritime Administration

[USCG-2007-28535]

Atlantic Sea Island Group LLC, Safe Harbor Energy Liquefied Natural Gas Deepwater Port License Application

AGENCY: Maritime Administration, DOT.

ACTION: Notice of public meeting; change in location.

SUMMARY: On January 9, 2009, the Maritime Administration published a notice of intent for the Atlantic Sea Island Group LLC, Safe Harbor Energy Liquefied Natural Gas Deepwater Port, with request for comments in the Federal Register, which included locations and times of open houses and public meetings. Subsequent events have required a change in the location of the open house and public meeting to be held on January 29, 2009. This notice provides the information on the new location.

Change: The Federal Register published on January 9, 2009 (Volume 74, Number 6, pages 982-984) indicated that the open house and public meeting on January 29, 2009 would be held at the Jackson by the Beach Hotel in Long Beach, New York. The location has been changed and the open house and public meeting on January 29, 2009 will be held at: Long Beach Public Library, 111 West Park Avenue, Long Beach, NY 11561; 516-432-7200. The date, location, and time for the public meeting and open house in Eatontown, New Jersey remains as originally announced.

DATES: Public meetings will be held in Eatontown, New Jersey on January 27, 2009; and in Long Beach, New York on January 29, 2009. The public meetings will be held from 6 p.m. to 8 p.m. and will be preceded by an open house from 4:30 p.m. to 6 p.m. The public meetings may end later than the stated time, depending on the number of persons wishing to speak.

ADDRESSES: The open house and public meeting on January 27, 2009 will be held at: The Sheraton of Eatontown, 6 Industrial Way East, Eatontown, NJ 07724; 732-542-6500.

The open house and public meeting on January 29, 2009 will be held at: Long Beach Public Library, 111 West Park Avenue, Long Beach, NY 11561; 516-432-7200.

FOR FURTHER INFORMATION CONTACT: Mark Prescott, U.S. Coast Guard, telephone: 202-372-1440, e-mail: Mark.A.Prescott@uscg.mil; or LT Hannah Kawamoto, U.S. Coast Guard, telephone: 202-372-1438, e-mail: Hannah.K.Kawamoto@uscg.mil; or Yvette Fields, U.S. Maritime Administration, telephone: 202-366-0926, e-mail: Yvette.Fields@dot.gov. If you have questions on viewing the docket, call Renee V. Wright, Program Manager, Docket Operations, telephone 202-493-0402.

By order of the Maritime Administrator.
Dated: January 14, 2009.
Christine S. Gurland,
Acting Secretary, Maritime Administration.

[FR Doc. E9-1077 Filed 1-15-09; 8:45 am]

BILLING CODE 4910-81-P